DEPARTMENT OF HEALTH AND HUMAN SERVICES

Food and Drug Administration

Drug Safety and Risk Management Advisory Committee; Notice of Postponement

AGENCY: Food and Drug Administration, HHS.

ACTION: Notice.

SUMMARY: The Food and Drug Administration (FDA) is postponing the meeting of the Drug Safety and Risk Management Advisory Committee scheduled for September 19, 2003, due to Hurricane Isabel. The future date of this meeting is to be determined. This meeting was announced in the Federal Register of August 5, 2003 (68 FR 46199).

FOR FURTHER INFORMATION CONTACT: Shalini Jain, Center for Drug Evaluation and Research (HFD-21), Food and Drug Administration, 5600 Fishers Lane (for express delivery, 5630 Fishers Lane, rm. 1093), Rockville, MD 20857, 301-827-7001, FAX: 301-827-6776, or e-mail: JAINS@CDER.FDA.GOV, or FDA Advisory Committee Information Line, 1-800-741-8138 (301-443-0572 in the Washington, DC area), code 12535. Please call the Information Line for up-to-date information on this meeting.

Dated: October 2, 2003.
Peter J. Pitts,
Associate Commissioner for External Relations.

[FR Doc. 03-25449 Filed 10-7-03; 8:45 am]

BILLING CODE 4160-01-S